DEPARTMENT OF ENERGY

Federal Energy Regulatory Commission

Combined Notice of Filings #1

Take notice that the Commission received the following exempt wholesale generator filings:

Docket Numbers: EG23-6-000.

Applicants: Buena Vista Energy Center, LLC.

Description: Buena Vista Energy Center, LLC Notice of Self-Certification of Exempt Wholesale Generator Status.

Filed Date: 10/11/22.

Accession Number: 20221011-5288.

Comment Date: 5 p.m. ET 11/1/22.

Docket Numbers: EG23-7-000.

Applicants: EnerSmart Imperial Beach BESS LLC.

Description: EnerSmart Imperial Beach BESS LLC submits Notice of Self-Certification of Exempt Wholesale Generator Status.

Filed Date: 10/11/22.

Accession Number: 20221011-5349.

Comment Date: 5 p.m. ET 11/1/22.

Take notice that the Commission received the following electric rate filings:

Docket Numbers: ER20-1721-001.

Applicants: Energy Harbor LLC.

Description: Compliance filing: Informational Filing Regarding Generation Facilities Sale to be effective N/A.

Filed Date: 10/11/22.

Accession Number: 20221011-5165.

Comment Date: 5 p.m. ET 11/1/22.

Docket Numbers: ER20-2446-005.

Applicants: Bitter Ridge Wind Farm, LLC.

Description: Supplemental Information/Informational Filing Pursuant to Schedule 2 of the PJM Tariff and Request for Waiver.

Filed Date: 10/7/22.

Accession Number: 20221007-5177.

Comment Date: 5 p.m. ET 10/28/22.

Docket Numbers: ER22-1640-001.

Applicants: Midcontinent Independent System Operator, Inc.

Description: Compliance filing: 2022-10-11_Responses for Additional Information re: Order 2222 Compliance Filing to be effective 10/1/2029.

Filed Date: 10/11/22.

Accession Number: 20221011-5347.

Comment Date: 5 p.m. ET 11/1/22.

Docket Numbers: ER23-42-000.

Applicants: Northern Virginia Electric Cooperative, Inc., PJM Interconnection, L.L.C.

Description: § 205(d) Rate Filing: Northern Virginia Electric Cooperative, Inc. submits tariff filing per 35.13(a)(2)(iii: Second Revised No. 3724 NITSA among PJM and NOVEC to be effective 9/7/2022.

Filed Date: 10/7/22.

Accession Number: 20221007-5141.

Comment Date: 5 p.m. ET 10/28/22.

Docket Numbers: ER23-43-000.

Applicants: Public Service Company of New Mexico.

Description: § 205(d) Rate Filing: 5th Revised NITSA/NOA Between PNM and Incorporated County of Los Alamos to be effective 10/1/2022.

Filed Date: 10/7/22.

Accession Number: 20221007-5143.

Comment Date: 5 p.m. ET 10/28/22.

Docket Numbers: ER23-44-000.

Applicants: Public Service Company of New Mexico.

Description: § 205(d) Rate Filing: San Juan Switching Station Participation Agreement to be effective 10/8/2022.

Filed Date: 10/7/22.

Accession Number: 20221007-5146.

Comment Date: 5 p.m. ET 10/28/22.

Docket Numbers: ER23-45-000.

Applicants: NTE Southeast Electric Company, LLC.

Description: Tariff Amendment: Cancellation entire tariff to be effective 10/10/2022.

Filed Date: 10/7/22.

Accession Number: 20221007-5155.

Comment Date: 5 p.m. ET 10/28/22.

Docket Numbers: ER23-46-000.

Applicants: Kleantricity, Inc.

Description: Tariff Amendment: Cancellation entire tariff to be effective 10/11/2022.

Filed Date: 10/11/22.

Accession Number: 20221011-5000.

Comment Date: 5 p.m. ET 11/1/22.

Docket Numbers: ER23-47-000.

Applicants: Endeavor Wind I, LLC.

Description: Baseline eTariff Filing: Reactive Power Compensation Filing to be effective 11/30/2022.

Filed Date: 10/11/22.

Accession Number: 20221011-5023.

Comment Date: 5 p.m. ET 11/1/22.

Docket Numbers: ER23-48-000.

Applicants: West Line Solar, LLC.

Description: Baseline eTariff Filing: West Line Solar, LLC MBR Tariff to be effective 10/15/2022.

Filed Date: 10/11/22.

Accession Number: 20221011-5030.

Comment Date: 5 p.m. ET 11/1/22.

Docket Numbers: ER23-49-000.

Applicants: Big Sky North, LLC.

Description: § 205(d) Rate Filing: Big Sky North, LLC Amended and Restated LGIA Co-Tenancy Agreement to be effective 10/12/2022.

Filed Date: 10/11/22.

Accession Number: 20221011-5032.

Comment Date: 5 p.m. ET 11/1/22.

Docket Numbers: ER23-50-000.

Applicants: ISO New England Inc., New England Power Pool Participants Committee.

Description: § 205(d) Rate Filing: ISO New England Inc. submits tariff filing per 35.13(a)(2)(iii: ISO-NE and NEPOOL; Revisions to Modify the Schedule for FCA 18 to be effective 12/10/2022.

Filed Date: 10/11/22.

Accession Number: 20221011-5174.

Comment Date: 5 p.m. ET 11/1/22.

Docket Numbers: ER23-51-000.

Applicants: Florida Power & Light Company.

Description: § 205(d) Rate Filing: Third Revised Rate Schedule No. 104-FPL, DEF, JEA, and COT to be effective 12/11/2022.

Filed Date: 10/11/22.

Accession Number: 20221011-5196.

Comment Date: 5 p.m. ET 11/1/22.

Docket Numbers: ER23-52-000.

Applicants: Westlake Chemicals & Vinyls LLC.

Description: § 205(d) Rate Filing: Notice of Succession for Axiall to Westlake to be effective 10/12/2022.

Filed Date: 10/11/22.

Accession Number: 20221011-5217.

Comment Date: 5 p.m. ET 11/1/22.

Docket Numbers: ER23-53-000.

Applicants: PJM Interconnection, L.L.C.

Description: Tariff Amendment: Notice of Cancellation of ISA, SA No. 5490; Queue No. AC1-071 to be effective 11/7/2022.

Filed Date: 10/11/22.

Accession Number: 20221011-5223.

Comment Date: 5 p.m. ET 11/1/22.

Docket Numbers: ER23-54-000.

Applicants: PJM Interconnection, L.L.C.

Description: Tariff Amendment: Notice of Cancellation of ICSA, Service Agreement No. 3477; Queue No. R11/Z2-109 to be effective 12/11/2019.

Filed Date: 10/11/22.

Accession Number: 20221011-5243.

Comment Date: 5 p.m. ET 11/1/22.

Docket Numbers: ER23-55-000.

Applicants: Alabama Power Company, Georgia Power Company, Mississippi Power Company.

Description: Tariff Amendment: Alabama Power Company submits tariff filing per 35.15: Atkinson County S1 (Atkinson Solar) LGIA Termination Filing to be effective 10/11/2022.

Filed Date: 10/11/22.

Accession Number: 20221011-5250.

Comment Date: 5 p.m. ET 11/1/22.

Docket Numbers: ER23-56-000.

Applicants: Alabama Power Company, Georgia Power Company, Mississippi Power Company.

Description: Tariff Amendment: Alabama Power Company submits tariff filing per 35.15: Sunflower Solar (Lucedale Solar Project) LGIA Termination Filing to be effective 10/11/2022.

Filed Date: 10/11/22.

Accession Number: 20221011-5253.

Comment Date: 5 p.m. ET 11/1/22.

Docket Numbers: ER23-57-000.

Applicants: Alabama Power Company, Georgia Power Company, Mississippi Power Company.

Description: § 205(d) Rate Filing: Alabama Power Company submits tariff filing per 35.13(a)(2)(iii: Hecate Energy Panther Path LGIA Filing to be effective 9/27/2022.

Filed Date: 10/11/22.

Accession Number: 20221011-5255.

Comment Date: 5 p.m. ET 11/1/22.

Docket Numbers: ER23-58-000.

Applicants: Twin Eagle Resource Management, LLC.

Description: § 205(d) Rate Filing: Amendment to Market-Based Rate Tariff with Change in Category Status to be effective 12/11/2022.

Filed Date: 10/11/22.

Accession Number: 20221011-5275.

Comment Date: 5 p.m. ET 11/1/22.

Docket Numbers: ER23-59-000.

Applicants: Presumpscot Hydro LLC.

Description: § 205(d) Rate Filing: Notice of Succession Dichotomy to Presumpscot to be effective 12/31/9998.

Filed Date: 10/11/22.

Accession Number: 20221011-5285.

Comment Date: 5 p.m. ET 11/1/22.

Docket Numbers: ER23-60-000.

Applicants: New York State Electric & Gas Corporation, New York Independent System Operator, Inc.

Description: § 205(d) Rate Filing: New York State Electric & Gas Corporation submits tariff filing per 35.13(a)(2)(iii: NYISO-NYSEG Joint 205 of Amended & Restated SunEast Dog Corners SGIA2546—CEII to be effective 9/27/2022.

Filed Date: 10/11/22.

Accession Number: 20221011-5293.

Comment Date: 5 p.m. ET 11/1/22.

Docket Numbers: ER23-61-000.

Applicants: Lancaster Area Battery Storage, LLC.

Description: § 205(d) Rate Filing: Co-Tenancy Agreement Certificate of Concurrence to be effective 10/15/2022.

Filed Date: 10/11/22.

Accession Number: 20221011-5302.

Comment Date: 5 p.m. ET 11/1/22.

Docket Numbers: ER23-62-000.

Applicants: Lancaster Area Battery Storage, LLC.

Description: § 205(d) Rate Filing: Master Interconnection Services Agreement Certificate of Concurrence to be effective 10/15/2022.

Filed Date: 10/11/22.

Accession Number: 20221011-5303.

Comment Date: 5 p.m. ET 11/1/22.

Docket Numbers: ER23-63-000.

Applicants: PJM Interconnection, L.L.C.

Description: § 205(d) Rate Filing: Amendment to ISA, SA No. 2025; Queue No. P36 (amend) to be effective 8/19/2008.

Filed Date: 10/11/22.

Accession Number: 20221011-5307.

Comment Date: 5 p.m. ET 11/1/22.

Docket Numbers: ER23-64-000.

Applicants: AEP Texas Inc.

Description: § 205(d) Rate Filing: AEPTX-Buckeye Corpus Christi Solar Generation Interconnection Agreement to be effective 9/19/2022.

Filed Date: 10/11/22.

Accession Number: 20221011-5331.

Comment Date: 5 p.m. ET 11/1/22.

Docket Numbers: ER23-65-000.

Applicants: AEP Texas Inc.

Description: § 205(d) Rate Filing: AEPTX-Tulsita Solar Generation Interconnection Agreement to be effective 9/19/2022.

Filed Date: 10/11/22.

Accession Number: 20221011-5342.

Comment Date: 5 p.m. ET 11/1/22.

Take notice that the Commission received the following electric securities filings:

Docket Numbers: ES23-2-000.

Applicants: Lucky Corridor, LLC.

Description: Application Under Section 204 of the Federal Power Act for Authorization to Issue Securities of Ameren Services Company.

Filed Date: 10/7/22.

Accession Number: 20221007-5196.

Comment Date: 5 p.m. ET 10/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 11, 2022.
Debbie-Anne A. Reese,
Deputy Secretary.

[FR Doc. 2022-22487 Filed 10-14-22; 8:45 am]

BILLING CODE 6717-01-P